SECURITIES AND EXCHANGE COMMISSION

Sunshine Act Meeting

Notice is hereby given, pursuant to the provisions of the Government in the Sunshine Act, Public Law 94-409, that the Securities and Exchange Commission will hold an Open Meeting on Wednesday, May 13, 2009 at 10 a.m., in the Auditorium, Room L-002.

The subject matter of the Open Meeting will be:

The Commission will hear oral argument in an appeal by Thomas C. Bridge, James D. Edge, and Jeffrey K. Robles from the decision of an administrative law judge. The law judge found that Bridge, a registered representative formerly associated with A.G. Edwards, and Charles Sacco, another former A.G. Edwards registered representative who settled a related Commission proceeding against him, willfully violated Section 17(a) of the Securities Act of 1933, Section 10(b) of the Securities Exchange Act of 1934, and Exchange Act Rule 10b-5 by taking action to “continue market timing after they had been restricted from doing so” by registered investment companies. The law judge further found that Edge, Bridge's supervisor, failed reasonably to supervise Bridge with a view to preventing his antifraud violations, and that Robles, Sacco's supervisor, failed reasonably to supervise Sacco.

For these violations, the law judge imposed the following sanctions: Bridge was ordered to cease and desist from violating or causing violations of the antifraud provisions, to disgorge approximately $40,000 plus prejudgment interest, to pay a $250,000 civil penalty, and to serve a one-year suspension from associating with a broker or dealer. Edge and Robles were both ordered to pay a $250,000 civil penalty, were barred from associating with a broker or dealer in a supervisory capacity, and were suspended from associating with a broker or dealer in any capacity for thirty days.

Among the issues likely to be argued are whether Bridge's and Sacco's conduct in connection with their market timing activity was fraudulent, whether Edge and Robles provided reasonable supervision under the circumstances, and, if so, whether and to what extent sanctions should be imposed on them.

Commissioner Casey, as duty officer, determined that no earlier notice thereof was possible.

At times, changes in Commission priorities require alterations in the scheduling of meeting items.

For further information and to ascertain what, if any, matters have been added, deleted or postponed, please contact: The Office of the Secretary at (202) 551-5400.

Dated: May 7, 2009.
Elizabeth M. Murphy,
Secretary.

[FR Doc. E9-11015 Filed 5-7-09; 11:15 am]

BILLING CODE 8010-01-P